DEPARTMENT OF HOMELAND SECURITY

Office of the Secretary

[Docket No. DHS-2015-0011]

Homeland Security Advisory Council

AGENCY: Office of Policy, DHS.

ACTION: Notice of charter renewal for Homeland Security Advisory Council.

SUMMARY: The Secretary of Homeland Security has determined that the renewal of the charter of the Homeland Security Advisory Council is necessary and in the public interest in connection with the Department of Homeland Security's performance of its duties. This determination follows consultation with the Committee Management Secretariat, General Services Administration.

DATES: The committee's charter is effective March 6, 2015 and expires March 6, 2017.

FOR FURTHER INFORMATION CONTACT: Mike Miron, Director, Homeland Security Advisory Council, U.S. Department of Homeland Security by phone at (202) 447-3135, or by email to hsac@dhs.gov.

SUPPLEMENTARY INFORMATION: The Homeland Security Advisory Council provides organizationally independent, strategic, timely, specific, and actionable advice and recommendations for the consideration of the Secretary of the Department of Homeland Security on matters related to homeland security. The Homeland Security Advisory Council is comprised of leaders of local law enforcement, first responders, state and local government, the private sector, and academia.

Dated: March 23, 2015.
Sarah Morgenthau,
Executive Director, Homeland Security Advisory Council, U.S. Department of Homeland Security.

[FR Doc. 2015-07094 Filed 3-26-15; 8:45 am]

BILLING CODE 9110-9M-P